NATIONAL SCIENCE FOUNDATION

Advisory Committee for Environmental Research and Education; Notice of Meeting

In accordance with the Federal Advisory Committee Act (Pub. L. 92-463, as amended), the National Science Foundation announces the following meeting:

Name: Advisory Committee for Environmental Research and Education, #9487.

Dates: March 13, 2013, 9:00 a.m.-5:00 p.m., and March 14, 2013, 9:00 a.m.-2:00 p.m.

Place: Stafford I, Room 1235, National Science Foundation, 4201Wilson Blvd., Arlington, Virginia 22230.

Type of Meeting: Open.

Contact Person: Beth Zelenski, National Science Foundation, Suite 705, 4201 Wilson Blvd., Arlington, Virginia 22230. Phone 703-292-8500.

Minutes: May be obtained from the contact person listed above.

Purpose of Meeting: To provide advice, recommendations, and oversight concerning support for environmental research and education.

Agenda

March 13, 2013

• Update on NSF environmental research and education activities

• Update on national and international collaborations

• Update on NSF's Science, Engineering and Education for Sustainability portfolio (SEES)

March 14, 2013

• Update on NSF priority areas

• Meeting with the NSF Director, Dr. Subra Suresh

Dated: February 6, 2013.
Susanne Bolton,
Committee Management Officer.

[FR Doc. 2013-02966 Filed 2-8-13; 8:45 am]

BILLING CODE 7555-01-P